DEPARTMENT OF DEFENSE

48 CFR Parts 251 and 252 and Appendix G to Chapter 2

Defense Federal Acquisition Regulation Supplement; Technical Amendments

AGENCY: Department of Defense (DoD).

ACTION: Final rule.

SUMMARY: DoD is making technical amendments to the Defense Federal Acquisition Regulation Supplement to update activity names and addresses, cross-references, and clause dates.

EFFECTIVE DATE: November 22, 2002.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350.

List of Subjects in 48 CFR Parts 251 and 252

Government procurement.

Michele P. Peterson,
Executive Editor, Defense Acquisition Regulations Council.

Therefore, 48 CFR Parts 251 and 252 and Appendix G to Chapter 2 are amended as follows:

1. The authority citation for 48 CFR Parts 251 and 252 and Appendix G to subchapter I continues to read as follows:

Authority: 41 U.S.C. 421 and 48 CFR Chapter1.

PART 251—USE OF GOVERNMENT SOURCES BY CONTRACTORS

251.102 [Amended]

2. Section 251.102 is amended in paragraph (e) introductory text, in the second sentence, by removing the parenthetical “(f)” and adding in its place “(e)”.

PART 252—SOLICITATION PROVISIONS AND CONTRACT CLAUSES

252.212-7001 [Amended]

3. Section 252.212-7001 is amended as follows:

a. By revising the clause date to read “(NOV 2002)”; and

b. In paragraph (b), in entries “252.225-7007” and “252.225-7021”, by removing “(SEP 2001)” and adding in its place “(OCT 2002)”.

4. Appendix G to Chapter 2 is amended by revising Part 2 to read as follows:

Appendix G—Activity Address Numbers

* * * * *

PART 2—ARMY ACTIVITY ADDRESS NUMBERS

DAAA08, B7 Rock Island Arsenal, ATTN: SOSRI-CT, Rock Island, IL 61299-5000

DAAA09, BA U.S. Army Operations Support Command, ATTN: AMSOS-CCA, 1 Rock Island Arsenal, Rock Island, IL 61299-6000

DAAA10, 9X Blue Grass Army Depot, Procurement Office, Building S-14, ATTN: SMABG-IOO-P, 2091 Kingston Highway, Richmond, KY 40475-5115

DAAA12, ZM Sierra Army Depot, Building 74, Herlong, CA 96113-5009

DAAA14, BK Tooele Army Depot, Contracting Office, ATTN: SOSTE-CD, Building 501, Tooele, UT 84074-0839

DAAA22, BV Watervliet Arsenal, ATTN: SOSWV-IML-P, Building 10, 1 Buffington Street, Watervliet, NY 12189-4000

DAAA31, GJ McAlester Army Ammunition Plant, ATTN: SOSMC-PC, 1 C Tree Road, McAlester, OK 74501-9002

DAAA33 U.S. Army Materiel Command, Combat Equipment Group “ Afloat, 103 Guidance Road, Goose Creek, SC 29445-6060

DAAB07, BG U.S. Army Communications-Electronics Command, CECOM Acquisition Center, ATTN: AMSEL-AC, Building 1208, Fort Monmouth, NJ 07703-5008

DAAB08, 2V U.S. Army Communications-Electronics Command, CECOM Acquisition Center, ATTN: AMSEL-AC, Building 1208, Fort Monmouth, NJ 07703-5008

DAAB15, BD U.S. Army Communications-Electronics Command, CECOM Acquisition Center Washington, ATTN: AMSEL-AC-W, 2461 Eisenhower Avenue, Alexandria, VA 22331-0700

DAAB17, ZS U.S. Army Communications-Electronics Command, Tobyhanna Depot Contracting Office, ATTN: AMSEL-TY-KO, 11 Hap Arnold Boulevard, Tobyhanna, PA 18466-5100

DAAB18, E4 U.S. Army Communications-Electronics Command, Technology Applications Office, ATTN: AMSEL-DSA-TA, 1671 Nelson Street, Fort Detrick, MD 21702-5004

DAAB32, Y6 U.S. Army Communications-Electronics Command, Southwest Operations Office, ATTN: AMSEL-AC-CC-S, Building 61801, Room 3212, Fort Huachuca, AZ 85613-5000

DAAD05, BM U.S. Army Robert Morris Acquisition Center, APG Contracting Division, Aberdeen Branch, ATTN: AMSSB-ACC-A, 4118 Susquehanna Avenue, Aberdeen Proving Ground, MD 21005-3013

DAAD11, B2 U.S. Army Robert Morris Acquisition Center, Denver Contracting Division, ATTN: AMSS-ACD, 72nd and Quebec Streets, Commerce City, CO 80022-1748

DAAD13, ZU U.S. Army Robert Morris Acquisition Center, APG Contracting Division, Edgewood Branch, ATTN: AMSSB-ACC-E, 5183 Blackhawk Road, Aberdeen Proving Ground, MD 21010-5424

DAAD15, BB U.S. Army Robert Morris Acquisition Center, Natick Contracting Division, ATTN: AMSSB-ACN-M, Building 1, Kansas Street, Natick, MA 01760-5011

DAAD16, C5 U.S. Army Robert Morris Acquisition Center, Natick Contracting Division (R&D and BaseOps), ATTN: MSSB-ACN-S, Building 1, Kansas Street, Natick, MA 01760-5011

DAAD17, 1Y U.S. Army Robert Morris Acquisition Center, Adelphi Contracting Division, ATTN: AMSSB-ACA, 2800 Powder Mill Road, Adelphi, MD 20783-1197

DAAD19, YU U.S. Army Robert Morris Acquisition Center, Research Triangle Park Contracting Division, ATTN: AMSSB-ACR, PO Box 12211, Research Triangle Park, NC 27709-2211

DAAD21, B1 U.S. Army Robert Morris Acquisition Center, Pine Bluff Contracting Division, ATTN: AMSSB-ACP, 10020 Kabrich Circle, Pine Bluff, AR 71602-9500

DAAE07, BR TACOM “ Warren, Acquisition Center, ATTN: AMSTA-AQ-AMB, E Eleven Mile Road, Warren, MI 48397-5000

DAAE08, SF TACOM “ Warren, Acquisition Center, ATTN: AMSTA-AQ, E Eleven Mile Road, Warren, MI 48397-5000

DAAE20, DG TACOM—Rock Island, ATTN: AMSTA-AQ-AR, Rock Island Arsenal, Rock Island, IL 61299-7630

DAAE24, BH TACOM “ Anniston, Directorate of Contracting, ATTN: AMSTA-AN-CT, 7 Frankford Avenue, Building 221, Anniston, AL 36201-4199

DAAE30, 2T TACOM “ Picatinny, Center for Contracting and Commerce, ATTN: AMSTA-AQ-AP, Building 9, Picatinny Arsenal, NJ 07806-5000

DAAE32, D7 TACOM—Red River, Directorate of Contracting, ATTN: AMSTA-RR-P, 100 Main Drive, Building 431, Texarkana, TX 75507-5000

DAAG99, ZY U.S. Army Program Manager—SANG, ATTN: AMCPM-NGA, Unit 61304, APO AE 09803-1304

DAAH01, CC U.S. Army Aviation and Missile Command, ATTN: AMSAM-AC, Building 5303, Martin Road, Redstone Arsenal, AL 35898-5280

DAAH03, D8 U.S. Army Aviation and Missile Command, ATTN: AMSAM-AC, Building 5303, Martin Road, Redstone Arsenal, AL 35898-5280

DAAH10, D9 Aviation Applied Technology Directorate, AMCOM RDEC, ATTN: AMSAM-RD-AA-C, Building 401, Lee Boulevard, Fort Eustis, VA 23604-5577

DAAH12, ZF IAS21WG, AMCOM RDEC, ATTN: AMSAM-TASO-I, Building 401, Lee Boulevard, Fort Eustis, VA 23604-5577

DAAH13, BJ Corpus Christi Army Depot, ATTN: SIOCC-RS-AQ, 308 Crecy Street, Corpus Christi, TX 78419-6170

DAAH17, ZN Letterkenny Army Depot, Directorate of Contracting, ATTN: AMSAM-\-LE-KO, 1 Overcash Avenue, Building 2, Chambersburg, PA 17201-4152

DAAH23, BS U.S. Army Aviation and Missile Command, ATTN: AMSAM-AC, Building 5303, Martin Road, Redstone Arsenal, AL 35898-5280

DABJ01, 1L ACA, North Region Contracting Center, Building 2798, Fort Eustis, VA 23604-5538

DABJ03, 2M Capitol Contracting Center, 9410 Jackson Loop, Suite 101, Fort Belvoir, VA 22060-5116

DABJ05, 1V ACA, Aberdeen Proving Ground, Directorate of Contracting, 4118 Susquehanna Avenue, Aberdeen Proving Ground, MD 21005-3013

DABJ07, BF ACA, Adephi, Directorate of Contracting, 2800 Powder Mill Road, Adelphi, MD 20783-1197

DABJ09, B6 Fort A.P. Hill, Directorate of Contracting, 14136 Burke Road, Fort A.P. Hill, VA 22427-3116

DABJ11, 2J ACA, Carlisle Barracks, Directorate of Contracting, 314 Lovell Avenue, Suite 1, Carlisle Barracks, PA 17013-5072

DABJ13, 1C ACA, Fort Carson, Directorate of Contracting, 1850 Mekong Street, Building 6222, Fort Carson, CO 80913-4323

DABJ15, 2G ACA, Fort Dix, Directorate of Contracting, 5418 South Scott Plaza, Fort Dix, NJ 08640-5097

DABJ17, 1M ACA, Fort Drum, Directorate of Contracting, 45 West Street, Fort Drum, NY 13602-5220

DABJ19, BP ACA, Dugway Proving Ground, Division of Contracting, Building 5330, Valdez Circle, Dugway, UT 84022-5000

DABJ21, 0S Fort Hamilton, Directorate of Contracting, 111 Battery Avenue, Room 115, Brooklyn, NY 11252-5000

DABJ23, 2F U.S. Army Engineer Center, Directorate of Contracting, PO Box 140, Fort Leonard Wood, MO 65473-0140

DABJ25, 1T ACA, Fort Lewis, Directorate of Contracting, Building 2015, Box 339500, Fort Lewis, WA 98433-9500

DABJ27, 1U ACA, Fort McCoy, Directorate of Contracting, Building 2103, 8th Avenue, Fort McCoy, WI 54656-5153

DABJ29, 0M National Defense University, Directorate of Contracting, 300 5th Avenue, Building 62, Room 203, Fort Lesley J. McNair, DC 20319-5066

DABJ31, 1J Fort George G. Meade, Directorate of Contracting, 4550 Parade Field Lane, Fort George G. Meade, MD 20755-5081

DABJ35, 0F Fort Myer Military Community, Building 205, Room 213, 204 Lee Avenue, Fort Myer, VA 22211-1199

DABJ37, 2Q ACA, Natick, Directorate of Contracting, Building 1, Kansas Street, Natick, MA 01760-5011

DABJ39, 2T ACA, Picatinny, Directorate of Contracting, Building 9, Picatinny Arsenal, NJ 07806-5000

DABJ41, 1G ACA, Fort Riley, Directorate of Contracting, PO Box 2248, Fort Riley, KS 66442-0248

DABJ45, G8 ACA, United States Military Academy, Directorate of Contracting, ATTN: MADC, 681 Hardee Place, West Point, NY 10996-1514

DABJ47, BN ACA, White Sands Missile Range, Directorate of Contracting, Building 143, Crozier Street, White Sands Missile Range, NM 88002-5201

DABJ49, B5 ACA, Yuma Proving Ground, Directorate of Contracting, Building 2100, Ocotillo Street, Yuma, AZ 85365-9106

DABK01, 1E ACA, South Region Contracting Center, 1301 Anderson Way SW, Fort McPherson, GA 30330-1096

DABK03, 2B ACA, Fort Benning, Directorate of Contracting, Building 6, Meloy Hall, Room 207, Fort Benning, GA 31905-5000

DABK05, 2L ACA, Fort Bliss, Directorate of Contracting, ATTN: ATZC-DOC, Building 2021, Club Road, Fort Bliss, TX 79916-6812

DABK07, 1N ACA, Fort Bragg, Installation Business Office—Contracting, Building 1-1333, Armistead & Macomb Street, Fort Bragg, NC 28307-0120

DABK09, 1H ACA, Fort Campbell, Directorate of Contracting, Building 2174, 13½ & Indiana Streets, Fort Campbell, KY 42223-1100

DABK11, 2C ACA, Fort Gordon, Directorate of Contracting, 419 B Street, Building 29718, 3rd Floor, Fort Gordon, GA 30905-5719

DABK13, BL ACA, Fort Huachuca, Directorate of Contracting, PO Box 12748, Fort Huachuca, AZ 85670-2748

DABK15, 1Q ACA, Fort Hood, Directorate of Contracting, 761st Tank Battalion Avenue, Room W103, Fort Hood, TX 76544-5025

DABK17, ZE ACA, Fort Irwin, Acquisition Command, PO Box 105095, Fort Irwin, CA 92310-5095

DABK19, 2K ACA, Fort Jackson, Directorate of Contracting, Building 4340, Magruder Street, Fort Jackson, SC 29207-5491

DABK21, 2E ACA, Fort Knox, Directorate of Contracting, Building 1109, Room 250, Fort Knox, KY 40121-5000

DABK23, 2A ACA, Fort McClellan, Directorate of Contracting, 291 Jimmy Parks Boulevard, Suite 215, Fort McClellan, AL 36205-5000

DABK25, G1 ACA, Fort Polk, Directorate of Contracting, PO Drawer 3918, Fort Polk, LA 71459-5000

DABK27, 0Q ACA, Presidio of Monterey, Directorate of Contracting, ATTN: ATZP-DOC, 1342 Plummer Street, Monterey, CA 93944-3328

DABK31, F6 ACA, Fort Rucker, Directorate of Contracting, Novosel Street, Building 5700, Room 380, Fort Rucker, AL 36362-5000

DABK33, F9 ACA, Fort Sam Houston, Directorate of Contracting, 2107 17th Street, Building 4197, Fort Sam Houston, TX 78234-5015

DABK35, 2H ACA, Fort Sill, Directorate of Contracting, PO Box 33501, Fort Sill, OK 73503-0501

DABK37, 1D ACA, Fort Stewart, Directorate of Contracting, 1042 William H Wilson Avenue, Suite 219, Fort Stewart, GA 31314-3322

DABL01, D0 ACA, ITEC4, Directorate of Contracting, 2461 Eisenhower Avenue, Alexandria, VA 22331-0700

DABL03, E1 ACA, Fort Huachuca, ITEC4 Contracting, Building 61801, Room 3212, Fort Huachuca, AZ 85613-5000

DABL05 , E7 ACA 5th Signal Command, Directorate of Contracting, ATTN: CMR 421, APO, AE 09056-0001

DABM03, 0L Headquarters, Third U.S. Army/ARCENT, ATTN: AFRD-PARC, 1881 Hardee Avenue SW, Building 363, Fort McPherson, GA 30330-7000

DABM06, 0P U.S. Army Central Command—Kuwait, ATTN: ARCENT-KU-DOC, Camp Doha, Kuwait, APO, AE 09889-9900

DABM09, 2D U.S. Army Central Command—Qatar, ATTN: ARCENT-QA-DOC, Doha, Qatar, APO, AE 09898

DABM13, G0 U.S. Army Central Command—Saudi Arabia, Directorate of Contracting, ATTN: ARCENT-SA, Eskan Village Riyadh, Saudi Arabia, APO, AE 09852

DABN01, G6 Wiesbaden Contracting Center, ATTN: AEUCC-C, CMR 410, Box 741, APO, AE 09096-0741

DABN03, G5 RCO Seckenheim, ATTN: AEUCC-S, Unit 29331, APO, AE 09266-0509

DABN06, F0 RCO Wuerzburg, ATTN: AEUCC-W, Unit 26622, APO, AE 09244-6622

DABN09, 8X RCO Grafenwoehr, ATTN: AEUCC-G, Unit 28130, APO, AE 09114-8130

DABN13 , 9Q RCO Vicenza, ATTN: AEUCC-I, Unit 31401, Box 33, APO, AE 09630-3326

DABN16, 9Z RCO Benelux, ATTN: AEUCC-B, PSC 79/BRCO, APO, AE 09714

DABN43, 0T JCC-Tuzla, ATTN: AEUCC-S3, Unit 29331, APO, AE 09266-0509

DABN46, G3 JCC-Taszar, ATTN: AEUCC-S3, Unit 29331, APO, AE 09266-0509

DABN49, G4 JCC-Sarajevo, ATTN: AEUCC-S3, Unit 29331, APO, AE 09266-0509

DABN53, 2N JCC-Bondsteel, ATTN: AEUCC-S3, Unit 29331, APO, AE 09266-0509

DABN56, E8 JCC-Camp Able Sentry, ATTN: AEUCC-S3, Unit 29331, APO, AE 09266-0509

DABN93, Y5 HQ USACCE, ATTN: AEUCC-S3, Unit 29331, APO, AE 09266-0509

DABP01, F4 HQ, EUSA, Asst Cofs Acquisition Management, ATTN: EAAQ (PARC), Unit 15236, APO, AP 96205-0009

DABQ01, 1K ACA, Pacific, Office of the Director/PARC, ATTN: SFCA-POH, Building T-115, B Street, Fort Shafter, HI 96858-5100

DABQ03, 8U ACA, Fort Richardson, Regional Contracting Office, Alaska, ATTN: SFCA-POH-A, PO Box 5-525, Fort Richardson, AK 99505-0525

DABQ06, CJ ACA, Fort Shafter, Regional Contracting Office, Hawaii, ATTN: SFCA-POH-H, Building 520, Pierce Street, Fort Shafter, HI 96858-5025

DABR01, Z2 ACA, OPARC, Mission Support Contracting Office, ATTN: Chief of the MSC, PO Box 34000, Fort Buchanan, PR 00934

DABR03, 1B ACA, Army BaseOps Support Activity, Westside Plaza II, ATTN: SOBO-DC, 8300 NW 33 Street, Suite 110, Miami, FL 33122-1940

DABR06, 8V U.S. Army South, Directorate of Contracting, ATTN: SOFB-DOC, Building 556, Fort Buchanan, PR 00934-3400

DABR09, ZC Joint Task Force Bravo, Contracting Office, ATTN: JTF-B-COA, Unit 5720, PSC 42, APO, AA 34042

DACA01, DACW01, CK U.S. Army Engineer District, Mobile, ATTN: CESAM-CT, PO Box 2288, Mobile, AL 36628-0001

DACA02, DACW02 U.S. Army Corps of Engineers, ATTN: CEPR-ZA, 441 G Street NW, Washington, DC 20314-1000

DACA03, DACW03, CL U.S. Army Engineer District, Little Rock, ATTN: CESWL-CT, PO Box 867, Little Rock, AR 72203-0867

DACA05, DACW05, CM U.S. Army Engineer District, Sacramento, ATTN: CESPK-CT, 1325 J Street, Sacramento, CA 95814-2922

DACA07, DACW07, CP U.S. Army Engineer District, San Francisco, ATTN: CESPN-CT, 333 Market Street, San Francisco, CA 94105-2195

DACA09, DACW09, CQ U.S. Army Engineer District, Los Angeles, ATTN: CESPL-CT, PO Box 532711, Los Angeles, CA 90053-2325

DACA17, DACW17, CS U.S. Army Engineer District, Jacksonville, ATTN: CESAJ-CT, PO Box 4970, Jacksonville, FL 32232-0019

DACA21, DACW21, CV U.S. Army Engineer District, Savannah, ATTN: CESAS-CT, PO Box 889, Savannah, GA 31402-0889

DACA23, DACW23, CX U.S. Army Engineer District, Chicago, ATTN: CELRC-CT, 111 North Canal Street, Chicago, IL 60606-7206

DACA25, DACW25, CD U.S. Army Engineer District, Rock Island, Clock Tower Building, ATTN: CEMVR-CT, PO Box 2004, Rock Island, IL 61204-2004

DACA27, DACW27, CY U.S. Army Engineer District, Louisville, ATTN: CELRL-CT, PO Box 59, Louisville, KY 40201-0059

DACA29, DACW29, CZ U.S. Army Engineer District, New Orleans, ATTN: CEMVN-CT, PO Box 60267, New Orleans, LA 70160-0267

DACA31, DACW31, DA U.S. Army Engineer District, Baltimore Contracting Division, ATTN: CENAB-CT, PO Box 1715, Baltimore, MD 21203-1715

DACA33, DACW33, DB U.S. Army Engineer District, New England, ATTN: CENAE-CT, 696 Virginia Road, Concord, MA 01742-2751

DACA35, DACW35, DC U.S. Army Engineer District, Detroit, ATTN: CELRE-CT, PO Box 1027, Detroit, MI 48321-1027

DACA37, DACW37, DD U.S. Army Engineer District, St. Paul, ATTN: CEMVP-CT, 190 Fifth Street East, St. Paul, MN 55101-1638

DACA38, DACW38, DE U.S. Army Engineer District, Vicksburg, ATTN: CEMVK-CT, 4155 Clay Street, Vicksburg, MS 39183-3435

DACA41, DACW41, DH U.S. Army Engineer District, Kansas City, ATTN: CENWK-CT, 700 Federal Building, 60l East 12th Street, Kansas City, MO 64106-2896

DACA42, DACW42, DF Vicksburg Consolidated Contracts Office, ATTN: ERDC, 4155 Clay Street, Vicksburg, MS 39183-3435

DACA43, DACW43, DJ U.S. Army Engineer District, St. Louis, ATTN: CEMVS-CT, 1222 Spruce Street, St. Louis, MO 63103-2833

DACA45, DACW45, DK U.S. Army Engineer District, Omaha, ATTN: CENWO-CT, 106 South 15th Street, Omaha, NE 68102-1618

DACA47, DACW47, DM U.S. Army Engineer District, Albuquerque, ATTN: CESPA-CT, 4101 Jefferson Plaza NE, Albuquerque, NM 87109-3435

DACA49, DACW49, DN U.S. Army Engineer District, Buffalo, ATTN: CELRB-CT, 1776 Niagara Street, Buffalo, NY 14207-3199

DACA51, DACW51, CE U.S. Army Engineer District, New York, Contracting Division, ATTN: CENAN-CT, 26 Federal Plaza, New York, NY 10278-0090

DACA54, DACW54, DQ U.S. Army Engineer District, Wilmington, ATTN: CESAW-CT, PO Box 1890, Wilmington, NC 28402-1890

DACA56, DACW56, DS U.S. Army Engineer District, Tulsa, ATTN: CESWT-CT, 1645 South 101st East Avenue, Tulsa, OK 74128-4609

DACA57, DACW57, DT U.S. Army Engineer District, Portland, ATTN: CENWP-CT, PO Box 2946, Portland, OR 97208-2946

DACA59, DACW59, DV U.S. Army Engineer District, Pittsburgh, ATTN: CELRP-CT, 1000 Liberty Avenue, Pittsburgh, PA 15222-4186

DACA60, DACW60, DW U.S. Army Engineer District, Charleston, ATTN: CESAC-CT, 69-A Hagood Avenue, Charleston, SC 29403-5107

DACA61, DACW61, CF U.S. Army Engineer District, Philadelphia, Contracting Division, ATTN: CENAP-CT, 100 Penn Square East, Wanamaker Building, Philadelphia, PA 19107-3390

DACA62, DACW62, DX U.S. Army Engineer District, Nashville, ATTN: CELRN-CT, PO Box 1070, Nashville, TN 37202-1070

DACA63, DACW63, DY U.S. Army Engineer District, Fort Worth, ATTN: CESWF-CT, PO Box 17300, Fort Worth, TX 76102-0300

DACA64, DACW64, DZ U.S. Army Engineer District, Galveston, ATTN: CESWG-CT, PO Box 1229, Galveston, TX 77553-1229

DACA65, DACW65, EA U.S. Army Engineer District, Norfolk, ATTN: CENAO-SS-C, 803 Front Street, Norfolk, VA 23510-1096

DACA66, DACW66, EB U.S. Army Engineer District, Memphis, ATTN: CEMVM-CT, 167 North Main Street, Room B-202, Memphis, TN 38103-1894

DACA67, DACW67, EC U.S. Army Engineer District, Seattle, ATTN: CENWS-CT, PO Box 3755, Seattle, WA 98124-3755

DACA68, DACW68, YW U.S. Army Engineer District, Walla Walla, ATTN: CENWW-CT, 201 North 3rd Avenue, Walla Walla, WA 99362-1876

DACA69, DACW69, CG U.S. Army Engineer District, Huntington, ATTN: CELRH-CT, 502 8th Street, Huntington, WV 25701-2070

DACA72, DACW72, ZA U.S. Army Humphreys Engineer Center Support Activity, ATTN: CEHEC-CT, 7701 Telegraph Road, Alexandria, VA 22315-3860

DACA78, DACW78, 9V Transatlantic Programs Center, ATTN: CETAC-CT, 201 Prince Frederick Drive, Winchester, VA 22602-5000

DACA79, DACW79, 2R U.S. Army Engineer District, Japan, ATTN: CEPOJ-CT, Unit 45010, APO AP 96338-5010

DACA81, DACW81, CN U.S. Army Engineer District, Far East, ATTN: CEPOF-CT, Unit 15546, APO AP 96205-0610

DACA83, DACW83, ZH U.S. Army Engineer District, Honolulu, ATTN: CEPOH-CT, Building 230, Fort Shafter, HI 96858-5440

DACA85, DACW85, ZJ U.S. Army Engineer District, Alaska, ATTN: CEPOA-CT, PO Box 6898, Elemendorf AFB, AK 99506-6898

DACA87, DACW87, ZW U.S. Army Engineer and Support Center, Huntsville, ATTN: CEHNC-CT, PO Box 1600, Huntsville, AL 35807-4301

DACA90, DACW90, 2S U.S. Army Engineer District, Europe, ATTN: CENAU-CT, CMR 410, Box 7, APO AE 09096-9401

DADA08, BT U.S. Army Medical Command, HCAA, Southeast Regional Contracting Office, ATTN: MCAA-SE, 39706 40th Street, Fort Gordon, GA 30905-5650

DADA09, YY U.S. Army Medical Command, HCAA, Great Plains Regional Contracting Office, ATTN: MCAA-GP, 3851 Roger Brooke, L31-9V, Fort Sam Houston, TX 78234-6200

DADA10, ZQ U.S. Army Medical Command, HCAA, MEDCOM Contracting Center, ATTN: MCAA-C, Building 4197, 2107 17th Street, Fort Sam Houston, TX 78234-5015

DADA13, 0W U.S. Army Medical Command, HCAA, Western Regional Contracting Office, ATTN: MCAA-W, 9902 Lincoln Street, Tacoma, WA 98431-1110

DADA15, 0X U.S. Army Medical Command, HCAA, MEDCOM Contracting Center—North Atlantic, ATTN: MCAA-NA, Building T-20, 6900 Georgia Avenue NW, Washington, DC 20307-5000

DADA16, 0Y U.S. Army Medical Command, HCAA, Pacific Regional Contracting Office, ATTN: MCAA-P, Building 160, Krukowski Road, Tripler AMC, HI 96859-5000

DADA19, 8W U.S. Army Medical Command, HCAA, European Regional Contracting Cell, ATTN: MCAA-E, Landstuhl, Germany, APO, AE 09180-3460

DAHA01, 9B USPFO for Alabama, PO Box 3715, Montgomery, AL 36109-0715

DAHA02, 0G USPFO for Arizona, 5645 East McDowell Road, Phoenix, AZ 85008-3423

DAHA03, 9D USPFO for Arkansas, Camp Robinson, North Little Rock, AR 72199-9600

DAHA04, 9N USPFO for California, PO Box 8104, San Luis Obispo, CA 93403-8104

DAHA05, Z0 USPFO for Colorado, ATTN: Mail Stop 66, 660 South Aspen Street, Building 1005, Aurora, CO 80011-9551

DAHA06, 1S USPFO for Connecticut, 360 Broad Street, Hartford, CT 06105-3779

DAHA07, 9A USPFO for Delaware, Grier Building, 1161 River Road, New Castle, DE 19720-5199

DAHA08, 2W USPFO for Florida, PO Box 1008, 189 Marine Street, St. Augustine, FL 32085-1008

DAHA09, C0 USPFO for Georgia, PO Box 17882, Atlanta, GA 30316-0882

DAHA10, CU USPFO for Idaho, 3489 West Harvard Street, Boise, ID 83705-6512

DAHA11, 9E USPFO for Illinois, Camp Lincoln, 1301 North MacArthur Boulevard, Springfield, IL 62702-2399

DAHA12, 4E USPFO for Indiana, 2002 South Holt Road, Indianapolis, IN 46241-4839

DAHA13, 9L USPFO for Iowa, Camp Dodge, 7700 NW Beaver Drive, Johnston, IA 50131-1902

DAHA14, 4Z USPFO for Kansas, 2737 South Kansas Avenue, Topeka, KS 66611-1170

DAHA15, 6P USPFO for Kentucky, Boone National Guard Center, 120 Minuteman Parkway, Building 120, Frankfort, KY 40601-6192

DAHA16, 0A USPFO for Louisiana, Jackson Barracks, Building 39, New Orleans, LA 70146-0330

DAHA17, 0B USPFO for Maine, Camp Keyes, Augusta, ME 04333-0032

DAHA18, 0C USPFO for Maryland, State Military Reservation, 301 Old Bay Lane, Havre de Grace, MD 21078-4094

DAHA19, 0D USPFO for Massachusetts, 50 Maple Street, Milford, MA 01757-3604

DAHA20, 9F USPFO for Michigan, 3111 West Saint Joseph Street, Lansing, MI 48913-5102

DAHA21, 9K USPFO for Minnesota, Camp Ripley, 15000 Highway 115, Little Falls, MN 56345-4173

DAHA22, CW USPFO for Mississippi, 144 Military Drive, Jackson, MS 39208-8860

DAHA23, 9H USPFO for Missouri, 7101 Military Circle, Jefferson City, MO 65101-1200

DAHA24, 9P USPFO for Montana, PO Box 1157, Helena, MT 59624-1157

DAHA25, 9S USPFO for Nebraska, 1234 Military Road, Lincoln, NE 68508-1092

DAHA26 USPFO for Nevada, 2601 South Carson Street, Carson City, NV 89701-5596

DAHA27, 9U USPFO for New Hampshire, PO Box 2003, Concord, NH 03302-2003

DAHA28, ZK USPFO for New Jersey, 3601 Technology Drive, Fort Dix, NJ 08640-7600

DAHA29 USPFO for New Mexico, 47 Bataan Boulevard, Santa Fe, NM 87508-4695

DAHA30, D2 USPFO for New York, 330 Old Niskayuna Road, Latham, NY 12110-2224

DAHA31, D3 USPFO for North Carolina, 4201 Reedy Creek Road, Raleigh, NC 27607-6412

DAHA32, D6 USPFO for North Dakota, PO Box 5511, Bismarck, ND 58506-5511

DAHA33, 9M USPFO for Ohio, 2811 West Dublin-Granville Road, Columbus, OH 43235-2788

DAHA34, 9J USPFO for Oklahoma, 3501 Military Circle, Oklahoma City, OK 73111-4398

DAHA35, 1X USPFO for Oregon, ATTN: USPFO-P, PO Box 14350, Salem, OR 97309-5047

DAHA36, DL USPFO for Pennsylvania, Department of Military and Veteran Affairs, Annville, PA 17003-5003

DAHA37, 9W USPFO for Rhode Island, 330 Camp Street, Providence, RI 02906-1954

DAHA38, DU USPFO for South Carolina, 9 National Guard Road, Columbia, SC 29201-4763

DAHA39, VQ USPFO for South Dakota, 2823 West Main Street, Rapid City, SD 57702-8186

DAHA40, YX USPFO for Tennessee, PO Box 40748, Nashville, TN 37204-0748

DAHA41, 9C USPFO for Texas, ATTN: Contracting Officer, PO Box 5218, Austin, TX 78763-5218

DAHA42 USPFO for Utah, PO Box 2000, Draper, UT 84020-2000

DAHA43 USPFO for Vermont, 789 Vermont National Guard Road, Building 3, Colchester, VT 05446-3004

DAHA44, ZR USPFO for Virginia, Building 316, Fort Pickett, Blackstone, VA 23824-6316

DAHA45, ZX USPFO for Washington, Building 32, Camp Murray, Tacoma, WA 98430-5170

DAHA46 USPFO for West Virginia, 50 Armory Road, Buckhannon, WV 26201-8818

DAHA47, 9G USPFO for Wisconsin, 8 Madison Boulevard, Camp Douglas, WI 54618-5002

DAHA48 USPFO for Wyoming, 5500 Bishop Boulevard, Cheyenne, WY 82009-3320

DAHA49 USPFO for the District of Columbia, Anacostia Naval Air Station, 189 Poremba Court SW, Washington, DC 20373-5046

DAHA50 USPFO for Hawaii, 4208 Diamond Head Road, Honolulu, HI 96816-4495

DAHA51, 2Z USPFO for Alaska, PO Box B, Camp Denali, Fort Richardson, AK 99505-2610

DAHA70 USPFO for Puerto Rico, PO Box 34069, Fort Buchanan, PR 00934-4068

DAHA72 USPFO for Virgin Islands, RR #2, Box 9200, Kinghill, St. Croix, VI 00850-9731

DAHA74 USPFO for Guam, 622 East Harmon Industrial Park Road, Tamuning, GU 96911-4421

DAHA90, 2Y National Guard Bureau, Contracting Support, ATTN: NGB-AQC, 1411 Jefferson Davis Highway, Arlington, VA 22202-3231

DAHA92 National Guard Bureau, Environmental/Air Acquisition Division, 1411 Jefferson Davis Highway, Arlington, VA 22202-3231

DAHA94 National Guard Bureau, CIO Contracting Office, ATTN: NGB-RCS-BO, 1411 Jefferson Davis Highway, Suite 7200, Arlington, VA 22202-3231

DAMD17, B3 U.S. Army Medical Research Acquisition Activity, ATTN: MCMR-AAA, 820 Chandler Street, Frederick, MD 21702-5014

DAMT01, 0E Military Traffic Management Command, ATTN: MTAQ, 200 Stovall Street, Alexandria, VA 22332-5000

DASC01, YJ HQ USAINSCOM, Directorate of Contracting, ATTN: IAPC-DOC, 8825 Beulah Street, Fort Belvoir, VA 22060-5246

DASC02, YV National Ground Intelligence Center, ATTN: IANG-LOG, 220 Seventh Street NE, Charlottesville, VA 22902-5396

DASG60, CB U.S. Army Space and Missile Defense Command, Deputy Commander, ATTN: SMDC-CM-AP, PO Box 1500, Huntsville, AL 35807-3801

DASG62, CH U.S. Army Space Command, ATTN: SMDC-AR-CM, 350 Vandenberg Street, Peterson AFB, CO 80914-2749

DASW01, F7 Defense Contracting Command—Washington, ATTN: Special Actions Unit Chief, 5200 Army Pentagon, Room 1D245, Washington, DC 20310-5200

DASW02, 1W USAVIC/Production Acquisition Division, ATTN: JDHQS-AV-W, 601 North Fairfax Street, Room 334, Alexandria, VA 22314-2007

DATM01, 0R U.S. Army, ATEC Mission Support Contracting Activity, ATTN: CSTE-CA, PO Box Y, Fort Hood, TX 76544-0770

5. Appendix G to Chapter 2 is amended in Part 5 by revising entry “FA4452” to read as follows:

PART 5—AIR FORCE ACTIVITY ADDRESS NUMBERS

* * * * *

FA4452, RL AMC CONF/LGCF, 507 Symington Drive, Room W202, Scott AFB, IL 62225-5015.

* * * * *

[FR Doc. 02-29469 Filed 11-21-02; 8:45 am]

BILLING CODE 5001-08-P